DEPARTMENT OF COMMERCE

Foreign-Trade Zones Board

[Docket 31-2011]

Foreign-Trade Zone 216—Olympia, Washington; Application for Reorganization Under Alternative Site Framework

An application has been submitted to the Foreign-Trade Zones (FTZ) Board (the Board) by the Port of Olympia, grantee of FTZ 216, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 9, 2011.

FTZ 216 was approved by the Board on August 16, 1996 (Board Order 836, 61 FR 45408, 08/29/1996) and expanded on May 8, 2000 (Board Order 1092, 65 FR 33295, 05/23/2000).

The current zone project includes the following sites: Site 1 (283 acres)—within the Port of Olympia terminal at Budd Bay Inlet of Puget Sound, adjacent to Interstate 5, Olympia; Site 2 (800 acres)—Olympia Airport and adjacent industrial park, Olympia; Site 3 (573 acres)—Marvin Road Industrial area, Interstate 5 and Highway 510, Lacy; Site 4 (109 acres)—Yelm Industrial area, Highway 507 and Highway 510, Yelm; Site 5 (165 acres)—Port of Centralia Industrial Park, within the Port of Centralia, Lewis County; Site 6 (87 acres)—Chehalis Industrial area, adjacent to Interstate 5, Chehalis; Site 7 (269 acres)—within the Port of Chehalis, 321 Maurin Road, Chehalis; Site 8 (39 acres)—Klein/South Prairie Industrial Park, 118 Klein Road, Chehalis; Site 9 (420 acres)—within the Port of Shelton, 21 West Sanderson Way, Shelton; Site 10 (130 acres)—John's Prairie Industrial Park, 1970 East John's Prairie Road, Shelton; Site 11 (217 acres)—Bremerton Airport South, within Port of Bremerton complex, 8850 SW State Road 3, Bremerton; Site 12 (312 acres)—Olympia View Industrial Park, Highway 3, Bremerton; and, Site 13 (24 acres)—67 SW Chehalis Avenue, Chehalis.

The grantee's proposed service area under the ASF would be all of Thurston County and portions of Lewis, Mason and Kitsap Counties, Washington, as described in the application. If approved, the grantee would be able to serve sites throughout the service area based on companies' needs for FTZ designation. The proposed service area is within and adjacent to the Olympia U.S. Customs and Border Protection port of entry.

The applicant is requesting authority to reorganize its existing zone project to include all of the existing sites except Site 8 as “magnet” sites. No usage-driven sites are being requested at this time. The applicant is also requesting authority to delete Site 8 and remove acreage from Sites 1, 3, 4 and 13, as described in the application.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 12, 2011. Rebuttal comments in response to material submitted during the foregoing period may be submitted during the subsequent 15-day period to July 27, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: May 9, 2011.
Andrew McGilvray,
Executive Secretary.

[FR Doc. 2011-11844 Filed 5-12-11; 8:45 am]

BILLING CODE P